DEPARTMENT OF DEFENSE

Department of the Air Force

Notice of Intent To Grant Partially Exclusive Patent License

AGENCY: Department of the Air Force, Department of Defense.

ACTION: Notice of intent.

SUMMARY: Pursuant to the Bayh-Dole Act and implementing regulations, the Department of the Air Force hereby gives notice of its intent to grant a partially exclusive patent license to Smart Response Technologies, Inc., a C Corporation, having a place of business at 726 East Main Street, Suite F117, Lebanon, Ohio 45036.

DATES: Written objections must be filed no later than fifteen (15) calendar days after the date of publication of this notice.

ADDRESSES: Submit written objections to Mr. John Schutte, 711th Human Performance Wing, 2510 Fifth Street, 840, Wright-Patterson AFB, OH 45433; or Email: john.schutte.3@us.af.mil. Include Docket No. ARH-220505C-PLA in the subject line of the message.

FOR FURTHER INFORMATION CONTACT: Mr. John Schutte, 711th Human Performance Wing, 2510 Fifth Street, 840, Wright-Patterson AFB, OH 45433; Telephone: 937-938-3038 or Email: john.schutte.3@us.af.mil.

SUPPLEMENTARY INFORMATION: The Department of the Air Force may grant the prospective license unless a timely objection is received that sufficiently shows the grant of the license would be inconsistent with the Bayh-Dole Act or implementing regulations. A competing application for a patent license agreement, completed in compliance with 37 CFR 404.8 and received by the Air Force within the period for timely objections, will be treated as an objection and may be considered as an alternative to the proposed license.

Abstract of Patent Application(s)

A multi-modal communications system integrates multiple different communications channels and modalities into a single user interface that enables operators to monitor and respond to multiple audio and text communications.

Intellectual Property

U.S. Patent No. 9,230,549, issued January 5, 2016, and entitled Multi-Modal Communications. The Department of the Air Force may grant the prospective license unless a timely objection is received that sufficiently shows the grant of the license would be inconsistent with the Bayh-Dole Act or implementing regulations. A competing application for a patent license agreement, completed in compliance with 37 CFR 404.8 and received by the Air Force within the period for timely objections, will be treated as an objection and may be considered as an alternative to the proposed license.

Adriane Paris,
Air Force Federal Register Liaison Officer.

[FR Doc. 2022-13576 Filed 6-24-22; 8:45 am]

BILLING CODE 5001-10-P